DEPARTMENT OF DEFENSE

Office of the Secretary

[Docket ID: DoD-2023-HA-0101]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by November 12, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Certificate of Death Information Worksheet; OMB Control Number: 0720-COFD.

Type of Request: Existing collection in use without an OMB number.

Number of Respondents: 50.

Responses per Respondent: 1.

Annual Responses: 50.

Average Burden per Response: 1 hour.

Annual Burden Hours: 50.

Needs and Uses: Information collection via the Certificate of Death Information Worksheet is necessary to complete the DD Form 2064, “Certificate of Death,” which is used by family members of deceased DoD employees, contractors, and non-affiliated civilians to settle estates, insurance claims, and other post-death related matters. The form is also used by the DoD to track the cause and manner of death of service members, federal employees, as well as their family members, dependents, and federal contractors, when a death occurs within federal jurisdiction or per Status of Forces Agreements. The form is also used by OCONUS hospitals and allows for the transportation of human remains. The Certificate of Death Information Worksheet is a tool that will be utilized to gather the information required to complete the DD Form 2064 if the necessary information is not available through normal channels. No members of the public will provide information directly onto the DD Form 2064. The information sheet is provided via email to the service casualty office, law enforcement agency, contract company, or next-of-kin to collect the necessary information. The missing or relevant information required to complete the DD Form 2064 is transferred into AFMETS once obtained via the worksheet. In AFMETS, information is synthesized, and a DD Form 2064 can be generated. This collection of information is authorized by 10 U.S.C. 1471, “Forensic Pathology Investigations”; 10 U.S.C. 1509, “Program to Resolve Missing Persons Cases”; and DoD Instruction 5154.30, “Armed Forces Medical Examiner System Operations.

Affected Public: Individuals or households.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: October 7, 2024.
Patricia L. Toppings,
OSD Federal Register Liaison Officer, Department of Defense.

[FR Doc. 2024-23558 Filed 10-10-24; 8:45 am]

BILLING CODE 6001-FR-P